DEPARTMENT OF DEFENSE

Office of the Secretary

[Transmittal Nos. 13-17]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-17 with attached Transmittal, Policy Justification and Sensitivity of Technology.

Dated: August 2, 2013.
Aaron Siegel,
Alternate OSD Federal Register Liaison Officer, Department of Defense.

Transmittal No. 13-17

Notice of Proposed Issuance of Letter of Offer Pursuant to Section 36(b)(1) of the Arms Export Control Act, as amended

(i) Prospective Purchaser: Iraq

(ii) Total Estimated Value:

Major Defense Equipment * | $ 230 million
Other | $ 70 million
TOTAL | $ 300 million

(iii) Description and Quantity or Quantities of Articles or Services under Consideration for Purchase: 12 Bell 412 EP helicopters equipped with Star SAFIRE III EO/IR systems, PT6T-3DF engines, KDM-706 Distance Measuring Equipment, KNR 634 VOR/LOC with MB/HSI, MST67A Transponder, Artex C406-1HM Emergency Locator Transmitter, Wulfsberg FlexComm II C5000 System with Synthesized Guard, KTR-908 Very High Frequency Radios, NAT AA-95 Audio System, 660 Weather Radar, AAI Radome, Night Vision Imaging System (NVIS) Compatible Cockpit Lighting, SX-16 Nightsun, spare and repair parts, support equipment, publications and technical data, personnel training and training equipment, site surveys, U.S. Government and contractor technical assistance, and other related elements of program and logistics support.

(iv) Military Department: U.S. Army (WAS)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: 25 July 2013

* as defined in Section 47(6) of the Arms Export Control Act.

POLICY JUSTIFICATION

Iraq—Bell 412 EP Helicopters

The Government of Iraq has requested a possible sale of 12 Bell 412 EP helicopters equipped with Star SAFIRE III EO/IR systems, PT6T-3DF engines, KDM-706 Distance Measuring Equipment, KNR 634 VOR/LOC with MB/HSI, MST67A Transponder, Artex C406-1HM Emergency Locator Transmitter, Wulfsberg FlexComm II C5000 System with Synthesized Guard, KTR-908 Very High Frequency Radios, NAT AA-95 Audio System, 660 Weather Radar, AAI Radome, Night Vision Imaging System (NVIS) Compatible Cockpit Lighting, SX-16 Nightsun, spare and repair parts, support equipment, publications and technical data, personnel training and training equipment, site surveys, U.S. Government and contractor technical assistance, and other related elements of program and logistics support. The estimated cost is $300 million.

This proposed sale will contribute to the foreign policy and national security of the United States by helping to improve the security of a strategic partner. This proposed sale directly supports the Iraq government and serves the interests of the Iraqi people and the U.S.

This proposed sale will contribute to Iraq's stability and sovereignty by providing a critical component to building its Air Force and achieving air sovereignty. This equipment will provide the Iraqi Air Force with a search and rescue capability critical to developing a mature Air Force.

The proposed sale of this equipment and support will not alter the basic military balance in the region.

The principal contractor will be Bell Helicopter Textron, Hurst, TX. There are no known offset agreements proposed in connection with this potential sale.

Implementation of this proposed sale will require approximately 20 U.S. Government contractor representatives to travel to Iraq for a period of up 3 years to provide aircraft specific flight and maintenance training and logistical support.

There will be no adverse impact on U.S. defense readiness as a result of this proposed sale.

Transmittal No. 13-17

Notice of Proposed Issuance of Letter of Offer Pursuant to Section 36(b)(1) of the Arms Export Control Act, as amended

Annex

Item No. vii

(vii) Sensitivity of Technology:

1. The Bell 412 is a commercial helicopter with integrated commercial off-the-shelf (COTS) mission equipment. It is equipped with two (2) Honeywell PT6T-3DF engines, fuel capacity of 330.5, GPS 500 or GPN 750, KDM-706 Distance Measuring Equipment, (DME), KNR 634 VOR/LOC with MB/HSI (KNR 634), MST67A Transponder, Artex C406-1HM Emergency Locator Transmitter (ELT), Wulfsberg FlexComm II C5000 System -w- Synthesized Guard, 29.7- 960 MHz (system consist of CD-5000), VHF-AM Comm #2 Radio (KTR-908), NAT AA-95 Audio System, FLIR Star Safire III, Honeywell 660 Weather Radar, AAI Radome, Night Vision Imaging System (NVIS) Compatible Cockpit Lighting, SX-16 Nightsun-w-in-flight IR changeover, and Life Port Interior Crew Seat and floor Armor. The Star SAFIRE III is an all-digital, full high definition EO/IR system that provides superior image stabilization, ultra long range imaging performance, and true metadata embedded in the digital video.

2. If a technologically advanced adversary were to obtain knowledge of the specific hardware and software elements, the information could be used to develop countermeasures which might reduce weapons systems effectiveness or be used in the development of a system with similar or advanced capabilities.

[FR Doc. 2013-19117 Filed 8-7-13; 8:45 am]

BILLING CODE 5001-06-P